ENVIRONMENTAL PROTECTION AGENCY

[FRL-8741-6]

Clean Air Act Advisory Committee; Notice of Charter Renewal

AGENCY: Environmental Protection Agency (EPA).

ACTION: Notice of Charter Renewal.

The charter for the Environmental Protection Agency's Clean Air Act Advisory Committee (CAAAC) will be renewed for an additional two-year period, as a necessary committee which is in the public interest, in accordance with the provisions of the Federal Advisory Committee Act (FACA), 5 U.S.C. App. 2. The purpose of CAAAC is to provide advice and recommendations to the EPA Administrator on issues associated with policy and technical issues associated with implementation of the Clean Air Act.

It is determined that CAAAC is in the public interest in connection with the performance of duties imposed on the Agency by law.

Inquiries may be directed to Pat Childers, CAAAC Designated Federal Officer, U.S. EPA, Mail Code 6102A, 1200 Pennsylvania Ave., NW., Washington, DC 20460, or by e-mail childers.pat@epa.gov.

Dated: September 17, 2008.
Robert J. Meyers,
Principal Deputy Assistant Administrator, Office of Air and Radiation.

[FR Doc. E8-27302 Filed 11-18-08; 8:45 am]

BILLING CODE 6560-50-M